DEPARTMENT OF COMMERCE

National Oceanic and Atmospheric Administration

RIN 0648-XG32

Unified Synthesis Product Development Committee

AGENCY: National Oceanic and Atmospheric Administration (NOAA, Commerce.

ACTION: Notice of establishment of Climate Change Science Program (CCSP) Unified Synthesis Product Development Committee (USPDC) and announcement of public meeting.

SUMMARY: Establishment of the USPDC will result in the provision of advice to the Under Secretary of Commerce on the content of a report that will integrate and evaluate the findings of the U.S. Climate Change Science Program in the context of current and projected global climate change trends, both human-induced and natural, and analyze the effects of current and projected climate change on: ecosystems and biological diversity; agriculture; energy production and use; land and water resources; transportation; and human health and social systems. This advice will be used by NOAA to develop a final product that addresses these topic areas. Following establishment of the USPDC, the first Committee meeting will be held. All sessions of the meeting will be open to the public.

DATES: The meeting will convene at 8 a.m. on Monday, March 31, 2008 and adjourn at 5:30 p.m. on Tuesday, April 1, 2008. Meeting information, including the names of the Lead Author team nominees, will be available online on the NOAA Climate Program Office CCSP website:

http://www.climate.noaa.gov/index.jsp?pg=./ccsp/index.html.

ADDRESSES: The first meeting of the USPDC will be held at the Hilton O'Hare Airport Hotel, Chicago, IL.

FOR FURTHER INFORMATION CONTACT: Dr. Christopher D. Miller, the USPDC Designated Federal Official (DFO) and the Program Manager, NOAA/OAR Climate Program Office Climate Change Data and Detection Program Element, Climate Program Office, 1315 East-West Highway, Room 12239, Silver Spring, Maryland 20910; telephone 301-734-1241, e-mail: Christopher.D.Miller@noaa.gov.

SUPPLEMENTARY INFORMATION:

Background

In accordance with the provisions of the Federal Advisory Committee Act, 5 U.S.C. App. 2, and the General Services Administration (GSA) rule of Federal Advisory Committee Management, 41 CFR part 102-3, and after consultation with GSA, the Secretary of Commerce has determined that the establishment of the National Oceanic and Atmospheric Administration (NOAA) Climate Change Science Program (CCSP) Unified Synthesis Product Development Committee (USPDC) is in the public interest, in connection with the performance of duties imposed on the Department by law. The USPDC will consist of no more than 35 members to be appointed by the Under Secretary to assure a balanced representation among preeminent scientists, educators, and experts reflecting the full scope of the scientific issues addressed in the CCSP Unified Synthesis Product. The USPDC will function solely as an advisory body, and in compliance with the provisions of the Federal Advisory Committee Act. Its charter will be filed under the Act 15 days from the date of publication of this notice in the Federal Register.

Status

Please note that meeting times and agenda topics described below are subject to change. The meeting will be open to public participation and will include a 30-minute public comment period on March 31 from 8 a.m. to 8:30 a.m. (check website to confirm this time). In general, each individual or group making a verbal presentation will be limited to a total time of five (5) minutes. Written comments will also be accepted and (at least 35 copies) should be received by the USPDC Designated Federal Official (DFO) by March 20, 2008 to provide sufficient time for review. Written comments received after March 20 will be distributed to the USPDC, but may not be reviewed prior to the meeting date. Seats will be available to the public on a first-come, first-served basis.

Matters To Be Considered

The meeting will discuss plans for development of the First Draft of the Climate Change Science Program (CCSP) Unified Synthesis Product.

Dated: March 11, 2008.
Mary M. Glackin,
Deputy Under Secretary for Oceans and Atmosphere.

[FR Doc. E8-5440 Filed 3-17-08; 8:45 am]

BILLING CODE 3510-12-S